DEPARTMENT OF COMMERCE

Submission for OMB Review; Comment Request

The Department of Commerce will submit to the Office of Management and Budget (OMB) for clearance the following proposal for collection of information under the provisions of the Paperwork Reduction Act.

Agency: U.S. Census Bureau.

Title: American Community Survey Methods Panel Tests, 2018 Data Slide Test.

OMB Control Number: 0607-0936.

Form Number(s): ACS-1, ACS CAPI, ACS internet.

Type of Request: Non-substantive Change Request.

Number of Respondents: 288,000.

Average Hours Per Response: 40 minutes.

Burden Hours: No additional burden hours are requested under this non-substantive change request.

Needs and Uses:

The American Community Survey (ACS) collects detailed socioeconomic data from about 3.5 million housing units in the United States and 36,000 in Puerto Rico each year. The ACS also collects detailed socioeconomic data from about 195,000 residents living in Group Quarter (GQ) facilities. An ongoing data collection effort with an annual sample of this magnitude requires that the ACS continue research, testing, and evaluations aimed at reducing respondent burden, improving data quality, achieving survey cost efficiencies, and improving ACS questionnaire content and related data collection materials. The ACS Methods Panel is a research program designed to address and respond to issues and survey needs.

Residents of sampled housing units are invited to self-respond to the ACS through a series of up to five mailings. Some respondents call the Census Bureau with questions or concerns about the survey after receiving the mail invitation. One common reason for calling is to verify that the ACS is a real survey. Respondents are hesitant to provide information about their household online or on a paper questionnaire without knowing that the survey is legitimate. Additionally, respondents want to understand how the data are used. To address these concerns, in addition to potentially improving the self-response rate, the Census Bureau seeks to test the inclusion of a data slide (also known as a slide chart) with the current ACS mail materials. The primary goals of the data slide are to help legitimize the survey and to present statistics of interest. The data slide could also potentially serve as a reminder to complete the survey. Promoting survey legitimacy and respondent trust may ultimately reduce respondent burden and increase self-response. The data slide will contain information on selected statistics from the ACS for each state, the District of Columbia, and Puerto Rico.

Two experimental treatments are proposed. This test will involve the initial package (the first mailing) and the paper questionnaire package (the third mailing); some experimental cases will receive a data slide in the initial package and other experimental cases will receive it in the paper questionnaire package (if a response is not received prior to the third mailing).

This test will study the impact on self-response and cost of including the data slide in the mail materials. To field this test, the Census Bureau plans to use the ACS production sample (clearance number: 0607-0810, expires 06/30/2018). Thus, there is no increase in burden from this test since each treatment will result in the same burden estimate per interview (40 minutes). The ACS sample design consists of randomly assigning each monthly sample panel into 24 groups of approximately 12,000 addresses each. Each group, called a methods panel group, within a monthly sample is representative of the full monthly sample. Each monthly sample is a representative subsample of the entire annual sample and is representative of the sampling frame.

The Census Bureau proposes to test the data slide as part of the ACS May 2018 panel, adhering to the same data collection protocols as production ACS. The Census Bureau proposes to use two randomly selected methods panel groups for each treatment. Hence, each treatment will have a sample size of approximately 24,000 addresses. In total, approximately 48,000 addresses will be used for the two experimental treatments. Additionally, 24,000 addresses will receive the current production mail materials, but will be sorted and mailed at the same time as the other treatment materials and serve as the control for statistical comparison. The remaining sample will receive production materials.

The Census Bureau proposes to evaluate treatment comparisons by comparing self-response rates at various points in the mailing schedule and by comparing the final response rates. For each comparison a two-tailed test will be used so that the Census Bureau can measure the impact on the evaluation measure in either direction with 80 percent power, at the α=0.1 level. The effective samples were calculated based on the previous year's data for the May panel. The sample size will be able to detect differences of approximately 1.25 percentage points between the self-response return rates of the control and experimental treatments. Additionally, a cost analysis will also be conducted.

Affected Public: Individuals or households.

Frequency: One-time test as part of the monthly American Community Survey.

Respondent's Obligation: Mandatory.

Legal Authority: Title 13, United States Code, Sections 141, 193, and 221.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2018-00085 Filed 1-5-18; 8:45 am]

BILLING CODE 3510-07-P